INTERNATIONAL BOUNDARY AND WATER COMMISSION

United States and Mexico; United States Section; Notice of Availability of a Final Environmental Assessment and Finding of No Significant Impact for Channel Maintenance Alternatives at Thurman I and II Arroyos in Hatch, NM, Rio Grande Canalization Project

AGENCY: United States Section, International Boundary and Water Commission, United States and Mexico (USIBWC).

ACTION: Notice of Availability of the Final Environmental Assessment (EA).

Pursuant to Section 102(2)(c) of the National Environmental Policy Act of 1969 (NEPA); the Council on Environmental Quality Final Regulations (40 CFR parts 1500 through 1508); and the USIBWC Operational Procedures for Implementing Section 102 of NEPA, published in the Federal Register September 2, 1981, (46 FR 44083); the USIBWC hereby gives notice that the Final Environmental Assessment and Finding of No Significant Impact for Channel Maintenance Alternatives at Thurman I and II Arroyos in Hatch, NM, Rio Grande Canalization Project is available. This EA evaluated potential environmental impacts of the No Action Alternative and two alternatives for the construction of sediment control projects at Thurman I and II Arroyos, two ephemeral tributaries of the Rio Grande, located in Hatch, Doña Ana County, New Mexico within a portion of the Rio Grande Canalization Project protective levee system. The Preferred Alternative, Alternative C: Sediment Basins, calls for the construction of a sediment basin at each arroyo with a concrete end wall. Permits would be required from the U.S. Army Corps of Engineers for dredge and fill of Waters of the United States, per the Clean Water Act Sections 404 and 401. Potential impacts on natural, cultural, and other resources were evaluated. Mitigation has been proposed for permits for construction. A Finding of No Significant Impact (FONSI) has been prepared for the Preferred Alternative based on a review of the facts and analyses contained in the EA.

Notice of the draft EA was published in the Federal Register on October 17, 2017 (Federal Register Notice, Vol. 82, No. 199, Page 48253) and provided a thirty (30) day comment period. An environmental impact statement will not be prepared.

FOR FURTHER INFORMATION CONTACT: Elizabeth Verdecchia, Natural Resources Specialist, USIBWC, 4171 N. Mesa, C-100; El Paso, Texas 79902. Telephone: (915) 832-4701, email: Elizabeth.Verdecchia@ibwc.gov.

Availability: The electronic version of the Final EA/FONSI is available on the USIBWC web page: https://www.ibwc.gov/EMD/EIS_EA_Public_Comment.html.

Dated: January 8, 2018.
Matt Myers,
Chief Legal Counsel.

[FR Doc. 2018-00943 Filed 1-19-18; 8:45 am]

BILLING CODE 4710-01-P